CONSUMER PRODUCT SAFETY COMMISSION

16 CFR Part 1512

[Docket No. CPSC-2023-0023]

Petition Requesting Rulemaking To Revoke the Footbrake Requirement for Sidewalk Bicycles

AGENCY: Consumer Product Safety Commission.

ACTION: Request for comment on petition for rulemaking.

SUMMARY: The Consumer Product Safety Commission has received a petition requesting that it initiate rulemaking to eliminate the footbrake requirement for certain sidewalk bicycles, which Commission regulations define as bicycles with a seat height of no more than 635 mm (25 inches), not including recumbent bicycles and in addition, seeks comments on the adequacy of requirements for bicycles in the Commission's rules, including electric bicycles. The Commission invites written comments concerning the petition.

DATES: Submit comments by July 24, 2023.

ADDRESSES: You can submit comments, identified by Docket No. CPSC-2023-0023, by any of the following methods:

Electronic Submissions: Submit electronic comments to the Federal eRulemaking Portal at: www.regulations.gov. Follow the instructions for submitting comments. Do not submit through this website: confidential business information, trade secret information, or other sensitive or protected information that you do not want to be available to the public. CPSC typically does not accept comments submitted by electronic mail (email), except as described below.

Mail/Hand Delivery/Courier/Confidential Written Submissions: CPSC encourages you to submit electronic comments using the Federal eRulemaking Portal. You may, however, submit comments by mail, hand delivery, or courier to: Office of the Secretary, Consumer Product Safety Commission, 4330 East West Highway, Bethesda, MD 20814; telephone: (301) 504-7479.

Instructions: All submissions must include the agency name and docket number. CPSC may post all comments without change, including any personal identifiers, contact information, or other personal information provided, to: www.regulations.gov. If you wish to submit confidential business information, trade secret information, or other sensitive or protected information that you do not want to be available to the public, you may submit such comments by mail, hand delivery, or courier, or you may email them to: cpsc-os@cpsc.gov.

Docket: For access to the docket to read background documents or comments received, go to: www.regulations.gov, and insert the docket number, CPSC-2023-0023, into the “Search” box, and follow the prompts.

FOR FURTHER INFORMATION CONTACT: Alberta E. Mills, Office of the Secretary, Consumer Product Safety Commission, 4330 East West Highway, Bethesda, MD 20814; telephone: 301-504-7479; email: cpsc-os@cpsc.gov.

SUPPLEMENTARY INFORMATION: On September 21, 2022, Don Mays of Product Safety Insights, LLC (petitioner), on behalf of woom (a manufacturer of children's bicycles), requested that the Commission initiate rulemaking to eliminate the footbrake requirement for sidewalk bicycles in 16 CFR 1512.5(e). Sidewalk bicycles, which generally are children's bicycles, are defined as bicycles with a seat height of no more than 635 mm (25 inches), not including recumbent bicycles. 16 CFR 1512.2(b). Commission regulations require that sidewalk bicycles with a minimum seat height of 560 mm (22 inches) must have footbrakes that cause the bicycle to stop when a pedal is rotated backwards. 16 CFR 1512.5(c), (e).

The petition argues that this regulation for sidewalk bicycles is out of date. The petition asserts that it is “hard to compare the relative safety of bicycle braking between children's bicycles with a combination of handbrakes and a footbrake to those with just handbrakes,” and alleges that there is no evidence that handbrakes are less safe than the required footbrakes—and may be safer than footbrakes. The request also asserts that manufacturers are producing and selling non-compliant children's bicycles without footbrakes. The petition claims that footbrakes cost more to produce than handbrakes, putting manufacturers that comply with CPSC's brake regulations at a competitive disadvantage to those who do not comply. The petition also states that European regulations do not require footbrakes for children's bicycles.

The Commission seeks comments as well as any studies or data pertaining to safety of footbrakes or handbrakes from the public concerning this petition.¹ In addition, the Commission seeks public comment on whether any other requirements in 16 CFR part 1512 are out of date, including whether such requirements are adequate to address bicycles defined in section 1512.2(a)(2). To the extent possible, commenters should provide specific information, including reference to known documentation, engineering studies, technical studies, reports of injuries, medical findings, legal analyses, economic analyses, and environmental impact analyses.

¹ The Commission voted 4-0 to approve publication of this notice.

The major factors the Commission considers in deciding whether to grant or deny a petition regarding a product include:

(1) Whether the product presents an unreasonable risk of injury.

(2) Whether a rule is reasonably necessary to eliminate or reduce the risk of injury.

(3) Whether failure to initiate the requested rulemaking proceeding would unreasonably expose the petitioner or other consumers to the risk of injury which the petitioner alleges is presented by the product.

In considering these factors, the Commission will consider the relative priority of the risk of injury associated with the product at issue and the Commission's available resources. 16 CFR 1051.9(b). The CPSC Policy on Establishing Priorities for Commission Action, 16 CFR 1009.8, sets forth the criteria upon which Commission priorities are based.

The petition is available at: https://www.regulations.gov, under Docket No. CPSC-2023-0023, Supporting and Related Materials. Alternatively, interested parties may obtain a copy of the petition by writing or calling the Office of the Secretary, Consumer Product Safety Commission, 4330 East West Highway, Bethesda, MD 20814; telephone (301) 504-7479; email: cpsc-os@cpsc.gov.

Alberta E. Mills,
Secretary, U.S. Consumer Product Safety Commission.

[FR Doc. 2023-11137 Filed 5-24-23; 8:45 am]

BILLING CODE 6355-01-P